DEPARTMENT OF ENERGY

Federal Energy Regulatory Commission

Combined Notice of Filings #1

September 25, 2008.

Take notice that the Commission received the following electric corporate filings:

Docket Numbers: EC08-126-000.

Applicants: LS Power Development, LLC, Luminus Management, LLC.

Description: Joint Application of LS Power Development, LLC and Luminus Management, LLC for Approval Under Section 203 of the Federal Power Act.

Filed Date: 09/25/2008.

Accession Number: 20080925-5004.

Comment Date: 5 p.m. Eastern Time on Thursday, October 16, 2008.

Take notice that the Commission received the following electric rate filings:

Docket Numbers: ER06-1517-002; ER06-1518-001; EL07-14-001.

Applicants: Wisconsin Power and Light Company.

Description: Amended Settlement Agreement.

Filed Date: 09/23/2008.

Accession Number: 20080923-5065.

Comment Date: 5 p.m. Eastern Time on Tuesday, October 14, 2008.

Docket Numbers: ER07-1194-001.

Applicants: Castlebridge Energy Group LLC.

Description: Castlebridge Energy Group LLC submits an amendment to its 8/13/08 Motion for Determination of Category 1 Seller Status, to be effective 8/13/08.

Filed Date: 09/18/2008.

Accession Number: 20080924-0083.

Comment Date: 5 p.m. Eastern Time on Thursday, October 02, 2008.

Docket Numbers: ER08-1042-002; ER08-1055-001.

Applicants: Midwest Independent Transmission System.

Description: Midwest Independent Transmission System Operator, Inc submits supplemental data in response to Data Request 5 pursuant to FERC's 7/30/08 Order.

Filed Date: 09/09/2008.

Accession Number: 20080925-0145.

Comment Date: 5 p.m. Eastern Time on Thursday, October 02, 2008.

Docket Numbers: ER08-1278-001.

Applicants: PacifiCorp.

Description: PacifiCorp informs that on 7/17/08 they submitted revisions to First Revised FERC Rate Schedule 297 between PacifiCorp and Utah Associated Municipal Power Systems.

Filed Date: 09/23/2008.

Accession Number: 20080924-0041.

Comment Date: 5 p.m. Eastern Time on Tuesday, October 14, 2008.

Docket Numbers: ER08-1560-000.

Applicants: San Diego Gas & Electric Company.

Description: San Diego Gas & Electric Company submits proposed modification to the following two tariff sheets in Appendices IX and VII of its Transmission Owner Tariff, FERC Electric Tariff, Original Volume 1 effective 1/1/09.

Filed Date: 09/22/2008.

Accession Number: 20080924-0135.

Comment Date: 5 p.m. Eastern Time on Tuesday, October 14, 2008.

Docket Numbers: ER08-1561-000.

Applicants: Midwest Independent Transmission System.

Description: Midwest Independent Transmission System Operator, Inc submits a Large Generator Interconnection Agreement among Wisconsin Power and Light Company, the Midwest ISO, and American Transmission Company LLC.

Filed Date: 09/22/2008.

Accession Number: 20080924-0052.

Comment Date: 5 p.m. Eastern Time on Tuesday, October 14, 2008.

Docket Numbers: ER08-1563-000.

Applicants: Southwest Power Pool, Inc.

Description: Southwest Power Pool, Inc submits proposes to revise a portion of its Open Access Transmission Tariff.

Filed Date: 09/23/2008.

Accession Number: 20080924-0037.

Comment Date: 5 p.m. Eastern Time on Tuesday, October 14, 2008.

Docket Numbers: ER08-1564-000.

Applicants: MidAmerican Energy Company.

Description: MidAmerican Energy Company submits a Services Agreement for Substation Operator Services and Substation Facility Maintenance Service between MidAmerican and Cordova Energy Company, LLC.

Filed Date: 09/23/2008.

Accession Number: 20080924-0038.

Comment Date: 5 p.m. Eastern Time on Tuesday, October 14, 2008.

Docket Numbers: ER08-1565-000.

Applicants: California Independent System Operator Corporation.

Description: Petition of the California Independent System Operator Corporation for approval of disposition of proceeds of penalty assessments.

Filed Date: 09/22/2008.

Accession Number: 20080924-0039.

Comment Date: 5 p.m. Eastern Time on Tuesday, October 14, 2008.

Docket Numbers: ER08-1566-000.

Applicants: Central Illinois Light Company.

Description: Central Illinois Light Company submits the Connection Construction Agreement with the City of Springfield, IL Office of Public Utilities.

Filed Date: 09/23/2008.

Accession Number: 20080925-0051.

Comment Date: 5 p.m. Eastern Time on Tuesday, October 14, 2008.

Take notice that the Commission received the following open access transmission tariff filings:

Docket Numbers: OA08-157-000.

Applicants: Southern Company Services, Inc.

Description: Southern Company Services, Inc.'s Order No. 890 and Order No. 890-B OATT Rollover Reform Compliance.

Filed Date: 09/23/2008.

Accession Number: 20080923-5042.

Comment Date: 5 p.m. Eastern Time on Tuesday, October 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-25928 Filed 10-29-08; 8:45 am]

BILLING CODE 6717-01-P